OVERSEAS PRIVATE INVESTMENT CORPORATION

Submission for OMB Review

AGENCY: Overseas Private Investment Corporation (OPIC).

ACTION: Request for comments.

SUMMARY: Under the provision of the Paperwork Reduction Act (44 U.S.C. chapter 35), agencies are required to publish a Notice in the Federal Register notifying the public, that the Agency is preparing an information collection request for OMB review, approval, and request public review and comment on the submission. Comments are being solicited on the need for the information; the accuracy of the Agency's burden estimate; the quality, practical utility and clarity of the information to be collected; and ways to minimize the reporting burden, including automated collection techniques by use of other forms of technology. The proposed form under review is summarized below.

DATES: Comments must be received by July 17, 2006.

ADDRESSES: Copies of the subject form and the request for review prepared for submission to OMB may be obtained from the Agency submitting officer. Comments on the form should be submitted to the Agency Submitting Officer.

FOR FURTHER INFORMATION CONTACT: OPIC Agency Submitting Officer: Essie S. Bryant, Records Management Officer, Overseas Private Investment Corporation, 1100 New York Avenue, NW., Washington, DC 20527; 202-336-8563.

OMB Contact: Office of Information and Regulatory Affairs, U.S. Office of Information and Regulator Affairs, Office of Management and Budget, Attention: Mr. David Rostker, 725 17th Street, Room 10102, NW., Washington, DC 20503; (202) 395-3897.

Summary Form Under Review

Type of Request: Renewal/Revision.

Title: Expedited Screening Questionnaire On-Lending Transactions.

Form Number: OPIC-168 (a & b).

Frequency of Use: Once per investor per project.

Type of Respondents: Business or other institution (except farms); individuals.

Description of Affected Public: U.S. companies or citizens investing overseas.

Reporting Hours: 4.0 hours per project.

Number of Responses: 300 per year.

Federal Cost: $17,000 per year.

Authority for Information Collection: Sections 231, 234(a), 239(d), and 240A of the Foreign Assistance Act of 1961, as amended.

Abstract (Needs and Uses): The application is the principal document used by OPIC to determine the investor's and the project's eligibility for debt financing, assess the environmental impact and developmental effects of the project, measure the economic effects for the U.S. and the host country's economy, and collect information for underwriting analysis.

Dated: June 8, 2006.
Eli Landy,
Senior Counsel for Administrative Law, Department of Legal Affairs.

[FR Doc. 06-5433 Filed 6-14-06; 8:45 am]

BILLING CODE 3210-01-M